DEPARTMENT OF DEFENSE

Office of the Secretary

Defense Department Advisory Committee on Women in the Services (DACO WITS); Cancellation of Meeting

AGENCY: Department of Defense.

ACTION: Notice.

SUMMARY: Notice is hereby given of the cancellation of the Defense Department Advisory Committee on Women in the Services business meeting, March 27, 2006, 8:30 a.m to March 29, 2006, 5 p.m., Embassy Suites Hotel Crystal City—National Airport, 1300 Jefferson Davis Highway, Arlington, VA 22202 which was published in the Federal Register on March 14, 2006, 71 FR 13108-13109. The meeting was cancelled due to a lack of quorum.

Dated: March 20, 2006.
L.M. Bynum,
Alternate OSD Federal Register Liaison Officer, DoD.

[FR Doc. 06-2855 Filed 3-23-06; 8:45 am]

BILLING CODE 5001-06-M